DEPARTMENT OF EDUCATION

President's Board of Advisors on Historically Black Colleges and Universities

AGENCY: Office of the Undersecretary, U.S. Department of Education.

ACTION: Announcement of an open meeting.

SUMMARY: This notice sets forth the agenda for the October 26, 2016 meeting of the President's Board of Advisors on Historically Black Colleges and Universities (Board) and provides information regarding an opportunity to attend. Notice of the meeting is required by the Federal Advisory Committee Act (FACA) and is intended to notify the public of its opportunity to attend. This notice is being published less than 15 calendar days prior to the meeting to address scheduling conflicts by having the meeting coincide with the National HBCU Week Conference and thereby ensure a quorum for the final meeting of the Board during this Administration.

DATES: The Board meeting will be held on October 26, 2016, from 9 a.m. to 2 p.m. E.D.T. at the Renaissance Capital View, 2800 South Potomac Avenue, Arlington, Virginia 22202.

FOR FURTHER INFORMATION CONTACT: Sedika Franklin, Associate Director, U.S. Department of Education, White House Initiative on Historically Black Colleges and Universities, 400 Maryland Avenue SW., Washington, DC 20204; telephone: (202) 453-5634 or (202) 453-5630, fax: (202) 453-5632, or email: sedika.franklin@ed.gov.

SUPPLEMENTARY INFORMATION:

Board's Statutory Authority and Function: The Board is established by Executive Order 13532 (February 26, 2010) and is continued by Executive Order 13708 (September 30, 2015). The Board is governed by the provisions of the FACA, which sets forth standards for the formation and use of advisory committees. The purpose of the Board is to advise the President and the Secretary of Education (Secretary) on all matters pertaining to strengthening the educational capacity of Historically Black Colleges and Universities (HBCUs).

The Board shall advise the President and the Secretary in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Meeting Agenda: Members of the public who wish to listen to the meeting via telephone may dial (877) 988-7340, participant code, 2881382.

The meeting agenda will include (i) a review of the Board's activities prior to October 26 2016; (ii) the introduction and swearing-in of five new members of the Board; (iii) Chairman William R. Harvey will present a report on HBCU issues and concerns; (iv) Deputy Under Secretary of the U.S. Department of Education and Acting Executive Director/Designated Federal Official, Kim Hunter Reed, will provide an update on current priorities of the White House Initiative on HBCUs, including planning strategies and initiatives; (v) Kim Hunter Reed will also provide an update on education policies relevant to HBCUs; (vi) Chairman Harvey will open the floor for subcommittee reports. The public comment period will begin immediately following the conclusion of the subcommittee reports.

Submission of request to make a public comment: There are two methods the public may use to provide an oral comment pertaining to the work of the Board at the October 26, 2016 meeting.

Method One: Submit a request by email to whirsvps@ed.gov. Please do not send materials directly to Board members. Requests for oral comment must be received by close of business October 22, 2016. Include in the subject line of the email request “Oral Comment Request: (organization name).” The email must include the name(s), title, organization/affiliation, mailing address, email address, telephone number, of the person(s) requesting to speak, and a brief summary (not to exceed one page) of the principal points to be made during the oral comment. All individuals submitting an advance request in accordance with this method will be afforded an opportunity to speak for three minutes.

Method Two: Register at the meeting location on October 26, 2016. The requestor must provide his or her name, title, organization/affiliation, mailing address, email address, and telephone number. Individuals will be selected on a first-come, first-served basis. If selected, each commenter will have an opportunity to speak for three minutes.

All comments made will become part of the official record of the Board. Similarly, written materials distributed during oral comment will become part of the official record of the meeting.

Submission of written public comments: The Board invites written comments, which will be read during the public comment period. Written comments must be received by close of business October 22, 2016 and must be sent via email to whirsvps@ed.gov. Please include in the subject line of the email “Written Comments: Public Comment.” The email must include the name(s), title, organization/affiliation, mailing address, email address, and telephone number, of the person(s) making the comment. Written comments should be submitted as a Microsoft Word document or in a medium compatible with Microsoft Word (not a PDF file) that is attached to the email message or is provided in the body of the email message. Please do not send material directly to the Board members.

Access to Records of the Meeting: The Department will post the official report of the meeting on the Board Web site 90 days after the meeting. Pursuant to the FACA, the public may also inspect the materials at 400 Maryland Avenue SW., Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice at least one week before the meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: Presidential Executive Order 13532, continued by Executive Order 13708.

Ted Mitchell,
Under Secretary.

[FR Doc. 2016-25828 Filed 10-24-16; 4:20 pm]

BILLING CODE 4000-01-P